ENVIRONMENTAL PROTECTION AGENCY

[FRL-6849-4]

Notice of Public Comment and Public Meetings Western Regional Air Partnership

AGENCY: Environmental Protection Agency (EPA).

ACTION: Notice.

SUMMARY: This notice announces public meetings and a request for public comment sponsored by the Western Regional Air Partnership (WRAP). The meetings and the request for comments concern several documents: the draft final recommendations on a backstop emissions trading program regarding regional emissions milestones for stationary sources of sulfur dioxide (SO2); a memorandum of understanding; and, a draft model rule. EPA is publishing this notice on behalf of the WRAP.

DATES: Please see Attachment to this notice.

ADDRESSES: Please see Attachment to this notice for public meeting locations.

FOR FURTHER INFORMATION CONTACT: Al Zemsky, Senior External Advisor, Air Division, [AIR-1], U.S. Environmental Protection Agency, Region IX, 75 Hawthorne Street, San Francisco, CA 94105, Telephone: (415) 744-1262.

SUPPLEMENTARY INFORMATION: The WRAP, comprising governors from Western states, tribal leaders and federal agency representatives, is seeking public comment on a proposal to reduce regional emissions from stationary sources of sulfur dioxide (SO2), as well as proposed recommendations regarding a backstop emissions trading program. The comments are important for developing final recommendations for Western air quality regulations to be submitted to the U.S. EPA.

The dates, times, and locations of the public meetings and the availability of the documents to be reviewed for comment are described in the Attachment to this notice.

Authority: 42 U.S.C. 7401 et seq.

Dated: August 3, 2000.
John Wise,
Acting Regional Administrator, Region IX.

Attachment: Notice of Public Comment and Public Meetings; August 14-September 8, 2000

The Proposal

The Western Regional Air Partnership (WRAP), comprising governors from 12 Western states, tribal leaders and federal agency representatives, is seeking public comment on a proposal to reduce regional emissions from stationary sources of sulfur dioxide (SO2), as well as proposed recommendations regarding a backstop emissions trading program. SO2 is an important contributor to haze in Western parks and wilderness areas. Preliminary analysis indicates that the cost of using a backstop trading program to reduce emissions will be $50-100 million cheaper than a traditional command-and-control program. Since the largest sources of sulfur dioxide are coal-fired electric power generating plants, a backstop trading program can offset—and potentially reduce—any increases in the cost of electricity for consumers.

To Comment

The WRAP is seeking public comment on several documents, including: (1) The draft final recommendations; (2) a memorandum of understanding; and, (3) a draft model rule. Complete details of the program are available at www.wrapair.org. The Web site contains links to submit comments via e-mail and instructions on how to join a listserve, which will automatically send an e-mail alerting subscribers that new information has been posted to the Web. If you have questions, contact either Patrick Cummins at the Western Governors' Association, 1515 Cleveland Place, Suite 200, Denver CO 80202, (303) 623-9378; or Bill Grantham at the National Tribal Environmental Council at 2221 Rio Grande NW, Albuquerque, NM 87104, (505) 242-2175.

Background

The WRAP was created as the successor organization to the Grand Canyon Visibility Transport Commission (GCVTC), which made over 70 recommendations in June 1996 for improving visibility in 16 national parks and wilderness areas on the Colorado Plateau. The Partnership promotes, supports and monitors implementation of those recommendations throughout the West.

Under the U.S. Environmental Protection Agency's Regional Haze Rule, nine of the Western states have the option to comply using the GCVTC's regional visibility protection program. The optional program requires the establishment of a regional emission target for 2018, in addition to interim targets. The recommendations and options regarding the market trading program were developed over the last two years by WRAP committees comprising a diverse group of stakeholders including industry, environmental groups and academia.

Other pollutants and pollution sources—vehicles, fires, smaller industrial sources—will be addressed in programs over the next few years. The final WRAP recommendations will be submitted to EPA by October 2, 2000. EPA will consider the market trading program as part of its formal rulemaking process for the Regional Haze Rule.

Public Meetings

August 22—Santa Fe, New Mexico—7 p.m., Runnels Bldg. Auditorium, 1190 St. Francis Drive

August 24—Phoenix, Arizona—7 p.m., Room 1709-10, Arizona DEQ, 3033 N. Central

August 29—Flagstaff, Arizona—6:30 p.m., Fremont Room, Dubois Center (follow signs off McConnell Drive), Northern Arizona University, Lower Campus

August 30—Salt Lake City, Utah—7 p.m., Utah DEQ Building, Room 101, 168 N. 1950 West

August 31—Casper, Wyoming—7 p.m., Basco Building, 777 West First Street

Sept. 6—Boise, Idaho—7 p.m., Idaho DEQ, 1410 N. Hilton

(Other state and tribal public meetings may be scheduled, and will be posted to the Web site.)

[FR Doc. 00-20344 Filed 8-10-00; 8:45 am]

BILLING CODE 6560-50-P